DEPARTMENT OF HEALTH AND HUMAN SERVICES

Administration for Children and Families

National Child Care Hotline and Web site; Comment request; Correction

AGENCY: Administration for Children and Families, Department of Health and Human Services.

ACTION: Comment request; correction.

SUMMARY: The Administration for Children and Families published a document in the Federal Register on March 8, 2016, requesting comments on a National toll-free hotline and Web site for child care. The document contained an incorrect email address for responses. Because the email address was incorrect, the Administration for Children and Families is extending the deadline for submission of comments as well.

FOR FURTHER INFORMATION CONTACT: Paula Bendl Smith, 202-401-5616.

Corrections

(1) In the Federal Register of March 8, 2016, in FR Doc. 81-12105, on page 12105, in the right-hand column, correct the ADDRESSES caption to read:

ADDRESSES: Submit comments to NWHcomment@acf.hhs.gov.

(2) In the Federal Register of March 8, 2016, in FR Doc. 81-12105, on page 12105, in the right-hand column, correct the DATES caption to read:

DATES: The deadline for receipt of comments is midnight, April 15, 2016.

Dated: April 6, 2016.
Shannon Rudisill,
Associate Deputy Assistant Secretary for Early Childhood Development.

[FR Doc. 2016-08283 Filed 4-11-16; 8:45 am]

BILLING CODE 4184-43-P